DEPARTMENT OF HOMELAND SECURITY

Coast Guard

33 CFR Part 165

[Docket No. USCG-2024-0946]

Safety Zone; Firework Display Within the Sector Columbia River Captain of the Port Zone

AGENCY: Coast Guard, DHS.

ACTION: Notification of enforcement of regulation.

SUMMARY: The Coast Guard will enforce safety zone regulations for the City of Richland Lighted Boat Parade Fireworks Display on December 6 and 7, 2024, to provide for the safety of life on navigable waterways during this display. Our regulation for safety zones within the Sector Columbia River Captain of the Port Zone identifies the regulated area for this event in Richland, WA. During the enforcement period, no person may enter or remain in the safety zone unless authorized by the Captain of the Port Sector Columbia River or a designated representative.

DATES: The regulations in 33 CFR 165.1315 will be enforced from 7 p.m. until 8:30 p.m., each day on December 6 and 7, 2024.

FOR FURTHER INFORMATION CONTACT: If you have questions about this notice of enforcement, call or email Lieutenant Commander Jesse Wallace, Waterways Management Division, Sector Columbia River, Coast Guard; telephone 503-572-3524, email SCRWWM@USCG.MIL.

SUPPLEMENTARY INFORMATION: The Coast Guard will enforce a safety zone in 33 CFR 165.1315 for the City of Richland Lighted Boat Parade Fireworks Display, in Richland, WA, from 7 p.m. until 8:30 p.m., each day on December 6 and 7, 2024 on the Columbia River. The safety zone will include all navigable waters within a 450-yard radius of the fireworks launch site location of approximately 46°16′29″ N; 119°16′10″ W.

The special requirements listed in 33 CFR 165.1315 apply to the activation and enforcement of the safety zone. During the enforcement period, as reflected in § 165.1315(e), no person may enter or remain in the safety zone unless authorized by the Captain of the Port Sector Columbia River or a designated representative. Additionally, each person in the safety zone must comply with the lawful order or directions of the Captain of the Port Sector Columbia River or designated representative.

In addition to this notification of enforcement in the Federal Register, the Coast Guard plans to provide notification of this enforcement period via the Local Notice to Mariners and marine information broadcasts.

Dated: October 25, 2024
J.W. Noggle,
CAPTAIN, U.S. Coast Guard, Captain of the Port Sector Columbia River.

[FR Doc. 2024-25644 Filed 11-4-24; 8:45 am]

BILLING CODE 9110-04-P